DEPARTMENT OF THE INTERIOR

National Park Service

[NPS-WASO-NRNHL-DTS#-30430; PPWOCRADI0, PCU00RP14.R50000]

National Register of Historic Places; Notification of Pending Nominations and Related Actions

AGENCY: National Park Service, Interior.

ACTION: Notice.

SUMMARY: The National Park Service is soliciting electronic comments on the significance of properties nominated before June 6, 2020, for listing or related actions in the National Register of Historic Places.

DATES: Comments should be submitted electronically by July 15, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before June 6, 2020. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KENTUCKY

Jefferson County

Kirby, Harriet Griswold and Judge Samuel Bonner, House (Jefferson County MRA), 2722 Maxey Ln., Louisville, MP100005344

MISSOURI

Jasper County

Webb, Elijah Thomas, House, 4 South Liberty St., Webb City, SG100005346

McDonald County

Old McDonald County Jail, 200 East 3rd St., Pineville, SG100005347

Morgan County

Second Baptist Church and Booker T. Washington School Historic District, 313 South Monroe St., Versailles, SG100005348

St. Louis Independent City

Kingshighway Hills Commercial District, 3701-3835 South Kingshighway Blvd., St. Louis, SG100005349

OREGON

Washington County

Fogelbo House, 8740 SW Oleson Road, Portland, SG100005343

Additional documentation has been received for the following resource:

KANSAS

Harvey County

Newton Main Street Historic District II (Additional Documentation), 411-825 North Main St. and 414-726 North Main St., Newton, AD03001146

Authority: Section 60.13 of 36 CFR part 60.

Dated: June 9, 2020.
Sherry A. Frear,
Chief, National Register of Historic Places/National Historic Landmarks Program.

[FR Doc. 2020-14032 Filed 6-29-20; 8:45 am]

BILLING CODE 4312-52-P